DEPARTMENT OF ENERGY

Federal Energy Regulatory Commission

Combined Notice of Filings #1

Take notice that the Commission received the following electric corporate filings:

Docket Numbers: EC19-94-000.

Applicants: Oasis Power Partners, LLC, Sagebrush, a California partnership, Oasis Wind Holdings, LLC.

Description: Application for Authorization Under Section 203 of the Federal Power Act, et al. of Oasis Power Partners, LLC, et al.

Filed Date: 5/24/19.

Accession Number: 20190524-5257.

Comments Due: 5 p.m. ET 6/14/19.

Docket Numbers: EC19-95-000.

Applicants: Craven County Wood Energy Limited Partnership, Grayling Generating Station Limited Partnership.

Description: Application for Authorization Under Section 203 of the Federal Power Act, et al. of Craven County Wood Energy Limited Partnership, et al.

Filed Date: 5/24/19.

Accession Number: 20190524-5266.

Comments Due: 5 p.m. ET 6/14/19.

Take notice that the Commission received the following electric rate filings:

Docket Numbers: ER16-372-006.

Applicants: PJM Interconnection, L.L.C.

Description: Compliance filing: Compliance Filing Pursuant to4/29/2019 Order to be effective 4/29/2019.

Filed Date: 5/28/19.

Accession Number: 20190528-5033.

Comments Due: 5 p.m. ET 6/18/19.

Docket Numbers: ER19-1979-000.

Applicants: Hecate Energy Highland LLC.

Description: Request for Limited Waiver, et al. of Hecate Energy Highland LLC.

Filed Date: 5/23/19.

Accession Number: 20190523-5234.

Comments Due: 5 p.m. ET 6/3/19.

Docket Numbers: ER19-1987-000.

Applicants: Sierra Pacific Power Company.

Description: § 205(d) Rate Filing: Service Agreement No. 18-00088 to be effective 5/24/2019.

Filed Date: 5/24/19.

Accession Number: 20190524-5210.

Comments Due: 5 p.m. ET 6/14/19.

Docket Numbers: ER19-1988-000.

Applicants: Nevada Power Company.

Description: § 205(d) Rate Filing: Service Agreement No. 15-00055 NPC and NPC Dry Lake 4th Amendment 05.24.19 to be effective 5/24/2019.

Filed Date: 5/24/19.

Accession Number: 20190524-5212.

Comments Due: 5 p.m. ET 6/14/19.

Docket Numbers: ER19-1989-000.

Applicants: Southwest Power Pool, Inc.

Description: § 205(d) Rate Filing: 3490 AEP Energy Partners, Inc. NITSA and NOA to be effective 6/1/2019.

Filed Date: 5/28/19.

Accession Number: 20190528-5009.

Comments Due: 5 p.m. ET 6/18/19.

Docket Numbers: ER19-1991-000.

Applicants: Tampa Electric Company.

Description: § 205(d) Rate Filing: Rate Schedule No. 21 w_City of Lakeland—Amendment to Exhibit A to be effective 6/1/2019.

Filed Date: 5/28/19.

Accession Number: 20190528-5060.

Comments Due: 5 p.m. ET 6/18/19.

Docket Numbers: ER19-1992-000.

Applicants: RE Gaskell West 2 LLC.

Description: Baseline eTariff Filing: Application for Market Based Rate to be effective5/29/2019.

Filed Date: 5/28/19.

Accession Number: 20190528-5097.

Comments Due: 5 p.m. ET 6/18/19.

Docket Numbers: ER19-1993-000.

Applicants: Oklahoma Gas and Electric Company.

Description: Tariff Cancellation: Cancellation of Cost Based Power Sales Tariff to be effective 5/29/2019.

Filed Date: 5/28/19.

Accession Number: 20190528-5099.

Comments Due: 5 p.m. ET 6/18/19.

Docket Numbers: ER19-1994-000.

Applicants: The Connecticut Light and Power Company.

Description: Initial rate filing: NTE Connecticut, LLC ? Engineering Design and Procurement Agreement to be effective 5/28/2019.

Filed Date: 5/28/19.

Accession Number: 20190528-5102.

Comments Due: 5 p.m. ET 6/18/19.

Docket Numbers: ER19-1995-000.

Applicants: RE Gaskell West 2 LLC.

Description: § 205(d) Rate Filing: Certificate of Concurrence to LGIA Co-Tenancy Agreement to be effective 5/29/2019.

Filed Date: 5/28/19.

Accession Number: 20190528-5110.

Comments Due: 5 p.m. ET 6/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 28, 2019.
Nathaniel J. Davis, Sr.,
Deputy Secretary.

[FR Doc. 2019-11593 Filed 6-3-19; 8:45 am]

BILLING CODE 6717-01-P